DEPARTMENT OF HOMELAND SECURITY

Coast Guard

33 CFR Part 165

[Docket No. USCG-2022-0130]

Safety Zone; Spirit Lake Dredging

AGENCY: Coast Guard, DHS.

ACTION: Notification of enforcement of regulation.

SUMMARY: The Coast Guard will enforce the USX Superfund Site Safety Zones: St. Louis River, and this notice of enforcement serves as a reminder to mariners this is still an enforced safety zone under Coast Guard regulations. Our regulation for safety zones within the Ninth Coast Guard District identifies this area as a regulated area within Spirit Lake Duluth, MN.

DATES: The regulations in 33 CFR 165.905(a)(1) and (2) will be enforced from April 4, 2022, through September 15, 2022.

FOR FURTHER INFORMATION CONTACT: If you have questions about this notice of enforcement, call or email LTJG Joseph R. McGinnis, MSU Duluth Waterways Management, U.S. Coast Guard; telephone 218-725-3818, email D09-SMB-MSUDuluthWWM@uscg.mil.

SUPPLEMENTARY INFORMATION: The Coast Guard will enforce the USX Superfund Site Safety Zone: St. Louis River, and this notice of enforcement serves as a reminder to mariners this is still an enforced safety zone under 33 CFR 165.905(a)(1) and (2). The USX Superfund Site Safety Zone: St. Louis River, includes Safety Zone #1 (North Spirit Lake): North Boundary 46°41′33″ W, South Boundary 46°41′18″ W, East Boundary 92°11′53″ W, West Boundary 92°12′11″ W, and Safety Zone #2 (South Spirit Lake): North Boundary 46°40′45″ N, South Boundary 46°40′33″ N, East Boundary 92°11′40″ W, West Boundary 92°12′05″ W. Transit of vessels through the waters covered by these zones is prohibited. Swimming (including water skiing or other recreational use of the water which involves a substantial risk of immersion in the water) or taking of fish (including all forms of aquatic animals) from the waters covered by these safety zones is prohibited at all times. Our regulation for safety zones within the Ninth Coast Guard District identifies this area is a regulated area within Spirit Lake Duluth, MN. In addition to this notice of enforcement in the Federal Register, the Coast Guard plans to provide notification of this enforcement period via the Local Notice to Mariners and marine information broadcasts.

Dated: March 3, 2022.
Frances M. Smith,
Captain of the Port MSU Duluth, CDR, U.S. Coast Guard.

[FR Doc. 2022-04905 Filed 3-8-22; 8:45 am]

BILLING CODE 9110-04-P